DEPARTMENT OF ENERGY

Federal Energy Regulatory Commission

[Docket No. CP04-361-000]

Steuben Gas Storage Company; Notice of Request Under Blanket Authorization

June 18, 2004.

Take notice that on June 14, 2004, Steuben Gas Storage Company (Steuben), 535 Boylston Street, 12th Floor, Boston, MA 02116, filed in Docket No. CP04-361-000, a request pursuant to its blanket certificate issued July 28, 1995 under Docket Nos. CP95-119-000 and CP95-119-001, for authority under Section 157.214 of the Commission's Regulations (18 CFR 157.214) to increase the natural gas volume and the maximum stabilized reservoir pressure at the Adrian gas storage field, located in Steuben County, New York.

Any questions regarding this application should be directed to David A.T. Donohue, President, Steuben Gas Storage Company, 535 Boylston Street, 12th Floor, Boston, Massachusetts 02116, at (617) 536-0202.

This filing is available for review at the Commission or may be viewed on the Commission's Web site at http://www.ferc.gov using the “eLibrary” link. Enter the docket number excluding the last three digits in the docket number field to access the document. For assistance, please contact FERC Online Support at FERCOnlineSupport@ferc.gov or call toll-free at (866) 208-3676, or for TTY, contact (202) 502-8659. Protests, comments and interventions may be filed electronically via the Internet in lieu of paper; see, 18 CFR 385.2001(a)(1)(iii) and the instructions on the Commission's Web site under the “e-Filing” link. The Commission strongly encourages interveners to file electronically.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205) a protest to the request. If no protest is filed within the time allowed therefore, the proposed activity shall be deemed to be authorized effective the day after the time allowed for filing a protest. If a protest is filed and not withdrawn within 30 days after the time allowed for filing a protest, the instant request shall be treated as an application for authorization pursuant to Section 7 of the Natural Gas Act.

Magalie R. Salas,
Secretary.

[FR Doc. E4-1418 Filed 6-25-04; 8:45 am]

BILLING CODE 6717-01-P